FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Consumer Satisfaction Questionnaire (FR 1379a), Federal Reserve Consumer Help—Consumer Survey (FR 1379b), Consumer Complaint Form (FR 1379c), and Interagency Appraisal Complaint Form (FR 1379d) (collectively FR 1379; OMB No. 7100-0135).

DATES: Comments must be submitted on or before December 12, 2022.

ADDRESSES: You may submit comments, identified by FR 1379, by any of the following methods:

• Agency website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Federal Reserve Board of Governors, Attn: Ann E. Misback, Secretary of the Board, Mailstop M-4775, 2001 C St NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St NW, Washington, DC 20551, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement, and other documentation, will be made available on the Board's public website at https://www.federalreserve.gov/apps/reportforms/review.aspx or may be requested from the agency clearance officer, whose name appears above. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: Consumer Satisfaction Questionnaire, Federal Reserve Consumer Help—Consumer Survey, Consumer Complaint Form, and Interagency Appraisal Complaint Form.

Collection identifier: FR 1379.

OMB control number: 7100-0135.

Frequency: Event generated.

Respondents: The FR 1379 panel comprises appraisers, individuals, and other entities.

Estimated number of respondents: FR 1379c, 11,853 and FR 1379d, 3.

Estimated average hours per response: FR 1379c, 0.16666 and FR 1379d, 0.5.

Estimated annual burden hours: FR 1379c, 1,975 and FR 1379d, 2.

General description of collection: The FR 1379a is sent to consumers who have filed complaints with the Federal Reserve against state member banks or other financial institutions supervised by the Board. The information is used to assess the satisfaction of the consumers with the Federal Reserve's handling of, and written response to, their complaints at the conclusion of an investigation. The FR 1379b is a survey sent to consumers who contact the Federal Reserve Consumer Help (FRCH) desk to file a complaint or inquiry. The information is used to determine whether consumers are satisfied with the way the FRCH handled their complaint. The FR 1379c form addresses the burden associated with consumers electronically submitting a complaint against a financial institution to the FRCH. The FR 1379d form collects information about complaints regarding a regulated institution's non-compliance with the appraisal independence standards and the Uniform Standards of Professional Appraisal Practice, including complaints from appraisers, individuals, and other entities.

Proposed revisions: The Board proposes to discontinue the FR 1379a and FR1379b surveys. The Board has not administered these surveys to consumers in at least 10 years and does not foresee a need to administer those surveys in the future.

Legal authorization and confidentiality: The Board uses information obtained via the FR 1379 forms to fulfill its obligations under section 8 of the Federal Deposit Insurance Act,¹ section 11(a) of the Federal Reserve Act,² and Title XI of the Financial Institutions Reform, Recovery, and Enforcement Act.³ The FR 1379 forms are voluntary.

¹ 12 U.S.C. 1818 (authorizing the Board to enforce compliance with laws against entities within its jurisdiction, including state member banks).

² 12 U.S.C. 248(a) (authorizing the Board to examine the affairs of each Federal Reserve Bank and of each member bank).

³ 12 U.S.C. 3339 (requiring the Board to prescribe appropriate standards for the performance of real estate appraisals in connection with federally related transactions under its jurisdiction).

Individual respondents may request confidential treatment in accordance with the Board's Rules Regarding Availability of Information.⁴ Requests for confidential treatment of information are reviewed on a case-by-case basis. To the extent information provided under these collections is nonpublic commercial or financial information, which is both customarily and actually treated as private by the respondent, or to the extent the information reflects personnel and medical files, the disclosure of which would constitute a clearly unwarranted invasion of personal privacy, the information may be protected from disclosure pursuant to exemptions 4 or 6 of the Freedom of Information Act.⁵

⁴ 12 CFR 261.17.

⁵ 5 U.S.C. 552(b)(4); (b)(6).

Determinations regarding disclosure of the information collected via the FR 1379 forms will be made in accordance with the Privacy Act.⁶ A hyperlink directing the respondent to the relevant Privacy Act statement is provided in these forms on the Board's website.

⁶ 5 U.S.C. 552a(b).

Board of Governors of the Federal Reserve System, October 7, 2022.
Michele Taylor Fennell,
Deputy Associate Secretary of the Board.

[FR Doc. 2022-22239 Filed 10-12-22; 8:45 am]

BILLING CODE 6210-01-P